DEPARTMENT OF JUSTICE

Notice of Lodging of Two Proposed Consent Decrees Under the Clean Water Act

On April 7, 2022, the Department of Justice lodged two proposed consent decrees with the United States District Court for the Northern District of Indiana in the lawsuit entitled United States of America and the State of Indiana v. the Sanitary District of Highland and the Town of Griffith, Indiana, Civil Action No. 2:22-cv-00086.

The United States and the State of Indiana filed this lawsuit under the Clean Water Act against the Sanitary District of Highland, Indiana and the Town of Griffith, Indiana. The complaint seeks injunctive relief and civil penalties for violations of the regulations that govern discharges of pollutants to waters of the State and United States. The Complaint alleges that both Highland and Griffith had numerous illegal discharges of sanitary sewage from their sanitary sewer systems and that both defendants failed to comply with an EPA administrative order under the Clean Water Act.

The United States and the State of Indiana reached two separate consent decrees with Highland and Griffith. The consent decree with Highland requires it to make improvements designed to eliminate sanitary sewer overflows by 2033 and pay a $175,000 civil penalty. The consent decree with the Town of Griffith requires it to make improvements designed to eliminate sanitary sewer overflows by 2026 and pay a $33,000 civil penalty.

The publication of this notice opens a period for public comment on each consent decree. Comments should be addressed to the Assistant Attorney General, Environment and Natural Resources Division, and should refer to United States of America and the State of Indiana v. the Sanitary District of Highland and the Town of Griffith, Indiana, D.J. Ref. Nos. 90-5-1-1-3308/4 and 90-5-1-1-3308/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $16.75 for the Highland Consent Decree or $16.75 for the Griffith Consent Decree (25 cents per page reproduction cost) payable to the United States Treasury.

Patricia McKenna,
Assistant Section Chief, Environmental Enforcement Section, Environment and Natural Resources Division.

[FR Doc. 2022-07810 Filed 4-11-22; 8:45 am]

BILLING CODE 4410-15-P